DEPARTMENT OF JUSTICE

Notice of Lodging of Consent Decree Pursuant to the Comprehensive Environmental Response Compensation and Liability Act (“CERCLA”)

Notice is hereby given that a proposed consent decree in United States and State of Rhode Island v. Town of South Kingstown, R.I., and Town of Narragansett, R.I., Civil Action 02-535 ML (D.R.I.), was lodged with the United States District Court for the District of Rhode Island on December 19, 2002 (“Consent Decree”). The Consent Decree resolves the claims of the United States and the State of Rhode Island (the “State”) against the Town of South Kingstown, R.I., and the Town of Narragansett, R.I. (the “Towns”), for past response costs and for implementation of the source control remedy at the Rose Hill Regional Landfill Superfund Site (“Rose Hill Landfill Site” or “Site”). The United States' claims are under section 106 and 107 of the Comprehensive Environmental Response, Compensation and Liability Act (“CERCLA”), 42 U.S.C. 9606, 9607, and the State's claims are under section 107 of CERCLA, 42 U.S.C. 9607, and R.I.G.L. chapters 23-18.9, 23-19.1, and 23-19.14. The Rose Hill Landfill Site is located in the Village of Peace Dale, Town of South Kingstown, Washington County, Rhode Island.

Under the Consent Decree, the Towns will pay $4,000,000, plus interest from March 31, 2002, to a Superfund special account in settlement of past costs incurred by the United States and future costs relating to the Operable Unit One—Source Control (“OU1”) remedy to be incurred by the United States. The OU1 remedy provides for excavation of the bulky waste at the Site and consolidating the bulky waste onto the solid waste area, followed by capping of the waste, along with leachate collection, landfill gas treatment, institutional controls, and monitoring. The Consent Decree provides that the State will implement the OU1 remedy and be responsible for 50% of the cost of construction and 100% of the cost of operation and maintenance of that remedy. Under the Consent Decree, the Towns are to eventually reimburse the State for 30 percent of the State's OU1 remedy costs through a combination of cash payments and in-kind operation and maintenance services.

Furthermore, the Consent Decree resolves the Towns' liability to the United States and the State for natural resource damages relating to the Rose Hill Landfill Site, subject to a reopener for unknown conditions and new information. The Towns will pay $122,000 to the National Oceanic and Atmospheric Administration (“NOAA”) and $3,000 to the Department of the Interior (“DOI”) in settlement of Federal claims for natural resources damages and/or natural resource damage assessment costs. The Towns will also repair or replace the Indian Run Reservoir Dam and the Asa Pond Dam, both in the Town of South Kingstown, R.I., in settlement of the State's claims for natural resource damages.

The Department of Justice will receive, for a period of thirty (30) days from the date of this publication, written comments relating to the proposed Consent Decree. Comments should be addressed to the Assistant Attorney General, Environment and Natural Resources Division, PO Box 7611, U.S. Department of Justice, Washington, DC 20044-7611, and should refer to United States and State of Rhode Island v. Town of South Kingstown, R.I., and Town of Narragansett, R.I., DOJ Ref. #90-11-3-06626.

Under R.I.G.L. § 23-19.14-11, the State will also receive, for a period of fourteen (14) days, written comments relating to the proposed Consent Decree. Comments should be addressed to the Director, Rhode Island Department of Environmental Management, 235 Promenade Street, Providence, Rhode Island 02908, and should refer to United States and State of Rhode Island v. Town of South Kingstown, R.I., and Town of Narragansett, R.I.

The proposed Consent Decree may be examined at the office of the United States Attorney for the District of Rhode Island, Fleet Center, 50 Kennedy Plaza, Providence, R.I. 02903 (contact Assistant United States Attorney, Michael P. Iannotti); the Region I Office of the U.S. Environmental Protection Agency, One Congress Street, Suite 1100, Boston, MA 02114-2023 (contact Senior Enforcement Counsel, Amelia Welt Katzen); and the office of the Rhode Island Department of Environmental Management, 235 Promenade Street, Providence, Rhode Island 02908 (contact Senior Legal Counsel, John A. Langlois). A copy of the proposed Consent Decree may be obtained by mail from the Consent Decree Library, PO Box 7611, Washington, DC 20044-7611 or by faxing a request to Tonia Fleetwood, fax no. (202) 514-0097, phone confirmation number (202) 514-1547. In requesting a copy, please refer to the referenced case and enclose a check in the amount of $21.25 (25 cents per page reproduction costs) for the Consent Decree, without appendices, or $150.25 (25 cents per page reproduction costs) for the Consent Decree, with appendices, payable to the U.S. Treasury.

Ronald G. Gluck,
Assistant Section Chief, Environmental Enforcement Section, Environment and Natural Resources Division.

[FR Doc. 02-33085 Filed 12-31-02; 8:45 am]

BILLING CODE 4410-15-M